DEPARTMENT OF TRANSPORTATION

Federal Aviation Administration

14 CFR Part 39

[Docket No. FAA-2009-0330; Directorate Identifier 2008-NE-43-AD; Amendment 39-17015; AD 2012-07-09]

RIN 2120-AA64

Airworthiness Directives; Turbomeca S.A. Turboshaft Engines

AGENCY: Federal Aviation Administration (FAA), DOT.

ACTION: Final rule.

SUMMARY: We are superseding an existing airworthiness directive (AD) for Turbomeca S.A. Arrius 2F turboshaft engines with P3 air pipe (first section) part number (P/N) 0 319 71 918 0, installed. That AD currently requires inspections of the P3 air pipe (first section) and right-hand (RH) rear half-wall for proper clearance and readjustment of the pipe if necessary. This new AD requires the same inspections for installed engines, eliminates readjusting of the P3 air pipe (first section), requires replacement of the RH rear half-wall under certain conditions, and adds an optional terminating action. This AD was prompted by Turbomeca determining that the clearance between the P3 air pipe (first section) and the RH rear half-wall might change during installation of the engine on the helicopter. We are issuing this AD to prevent an uncommanded power loss to flight idle, which could result in an emergency autorotation landing or accident.

DATES: This AD is effective May 24, 2012.

The Director of the Federal Register approved the incorporation by reference of a certain publication listed in the AD as of May 24, 2012.

The Director of the Federal Register approved the incorporation by reference of a certain other publication listed in the AD as of August 19, 2009 (74 FR 34221, July 15, 2009).

ADDRESSES: For service information identified in this AD, contact Turbomeca, 40220 Tarnos, France; phone: 33 (0)5 59 74 40 00; telex 570 042; fax 33 (0)5 59 74 45 15. You may review copies of the referenced service information at the FAA, Engine & Propeller Directorate, 12 New England Executive Park, Burlington, MA. For information on the availability of this material at the FAA, call 781-238-7125.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Mark Riley, Aerospace Engineer, Engine Certification Office, FAA, Engine & Propeller Directorate, 12 New England Executive Park, Burlington, MA 01803; phone: 781-238-7758; fax: 781-238-7199; email: mark.riley@faa.gov.

SUPPLEMENTARY INFORMATION:

Discussion

We issued a notice of proposed rulemaking (NPRM) to amend 14 CFR part 39 to supersede AD 2009-14-11, Amendment 39-15961 (74 FR 34221, July 15, 2009). That AD applies to the specified products. The NPRM published in the Federal Register on December 13, 2011 (76 FR 77446). That NPRM proposed to continue to require inspections of the P3 air pipe (first section) and right-hand (RH) rear half-wall for proper clearance. That NPRM also proposed to require eliminating readjusting of the P3 air pipe (first section), replacing the RH rear half-wall under certain conditions, and adding an optional terminating action.

Service Bulletin Reference

In AD 2009-14-11 (74 FR 34221, July 15, 2009), “Version A” was inadvertently omitted from the reference to Turbomeca Mandatory Service Bulletin No. 319 75 4810, dated May 14, 2008. In this AD, the service bulletin reference reads correctly as “Turbomeca Mandatory Service Bulletin No. 319 75 4810, Version A, dated May 14, 2008.”

Comments

We gave the public the opportunity to participate in developing this AD. We received no comments on the NPRM (76 FR 77446, December 13, 2011).

Credit for Previous Action Added

Since we issued the NPRM (76 FR 77446, December 13, 2011) the European Aviation Safety Agency (EASA) superseded AD 2011-0182, dated September 22, 2011, to include a credit for inspections done using Turbomeca Mandatory Service Bulletin (MSB) No. 319 75 4810, Version A, dated May 14, 2008. We added a paragraph for credit for previous action, which states that inspections performed on an installed engine before the effective date of this AD using Turbomeca MSB No. 319 75 4810, Version A, dated May 14, 2008, satisfies the inspection requirements in paragraphs (e)(1)(i) and (e)(1)(ii) of this AD. We also changed the EASA AD reference to EASA AD 2011-0182R1, dated February 3, 2012.

Conclusion

We reviewed the relevant data and determined that air safety and the public interest require adopting the AD with the changes described previously.

Costs of Compliance

We estimate that this AD will affect about 120 Arrius 2F turboshaft engines installed on helicopters of U.S. registry. We also estimate that it will take about 2 work-hours per engine to comply with this AD. The average labor rate is $85 per work-hour. Required parts will cost about $2,565 per engine. Based on these figures, we estimate the cost of the AD on U.S. operators to be $328,200. Our cost estimate is exclusive of possible warranty coverage.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-14-11, Amendment 39-15961 (74 FR 34221, July 15, 2009), and adding the following new AD:

2012-07-09 Turbomeca S.A: Amendment 39-17015; Docket No. FAA-2009-0330; Directorate Identifier 2008-NE-43-AD.

(a) Effective Date

This airworthiness directive (AD) is effective May 24, 2012.

(b) Affected ADs

This AD supersedes AD 2009-14-11, Amendment 39-15961 (74 FR 34221, July 15, 2009).

(c) Applicability

This AD applies to Turbomeca S.A. Arrius 2F turboshaft engines with right-hand (RH) rear half-wall, part number (P/N) 0319 99 824 0, installed.

(d) Unsafe Condition

The P3 air pipe (first section) and the RH rear half-wall could rub each other. Rubbing between the pipe and the RH rear half-wall may lead to rupture of the P3 air pipe (first section), which could cause an uncommanded power loss to flight idle. We are issuing this AD to prevent an uncommanded power loss to flight idle, which could result in an emergency autorotation landing or accident.

(e) Compliance

Comply with this AD within the compliance times specified, unless already done.

(1) For installed engines, within 100 engine hours (EH) after the effective date of this AD:

(i) Inspect the clearance between the P3 air pipe (first section) and the RH rear half-wall for sufficient clearance (0.5 mm or more).

(ii) Use paragraph 2.B.(1) of Turbomeca Mandatory Service Bulletin (MSB) No. 319 75 4810, Version B, dated January 25, 2011 to do the inspection.

(2) Thereafter, repeat the inspections in paragraphs (e)(1)(i) through (e)(1)(ii) of this AD as follows:

(i) At every installation of a RH rear half-wall P/N 0 319 99 824 0 on an installed engine, and

(ii) After every installation or reinstallation of an engine with a RH rear half-wall P/N 0 319 99 824 0 installed.

(3) If the P3 air pipe (first section) or the RH rear half-wall P/N 0 319 99 824 0 is found damaged, then before further flight, replace the damaged part(s) with parts eligible for installation.

(4) If the P3 air pipe (first section) and the RH rear half-wall P/N 0 319 99 824 0 are found contacting each other but are not damaged, replace the RH rear half-wall with a RH rear half-wall eligible for installation.

(5) If both the P3 air pipe (first section) and the RH rear half-wall are found not damaged during the inspections specified in paragraph (e)(1) or (e)(2) of this AD, and the clearance between them is less than 0.5 mm, but they are not contacting each other, then repeat the inspection in paragraphs (e)(1)(i) and (e)(1)(ii) of this AD within every 100 EH.

(6) Installation of RH rear half-wall, P/N 0 319 99 008 0, is terminating action to the inspections required by paragraphs (e)(1), (e)(2), and (e)(5) of this AD.

(7) Once a RH rear half-wall, P/N 0 319 99 008 0, is installed on an engine, do not install a RH rear half-wall, P/N 0 319 99 824 0, on that engine.

(f) Definition

For the purpose of this AD, parts eligible for installation is defined as:

(1) An undamaged P3 air pipe (first section).

(2) An undamaged RH rear half-wall P/N 0 319 99 824 0.

(3) A new design RH rear half-wall P/N 0 319 99 008 0.

(g) Credit for Previous Action

An inspection performed on an installed engine before the effective date of this AD using Turbomeca MSB No. 319 75 4810, Version A, dated May 14, 2008, satisfies the inspection requirement in paragraphs (e)(1)(i) and (e)(1)(ii) of this AD.

(h) Alternative Methods of Compliance (AMOCs)

The Manager, Engine Certification Office, may approve alternative methods of compliance for this AD. Use the procedures found in 14 CFR 39.19 to make your request.

(i) Related Information

(1) For more information about this AD, contact Mark Riley, Aerospace Engineer, Engine Certification Office, FAA, Engine & Propeller Directorate, 12 New England Executive Park, Burlington, MA 01803; phone: 781-238-7758; fax: 781-238-7199; email: mark.riley@faa.gov.

(2) European Aviation Safety Agency AD 2011-0182R1, dated February 3, 2012, pertains to the subject of this AD.

(3) For service information identified in this AD, contact. You may review copies of the referenced service information at the FAA, Engine & Propeller Directorate, 12 New England Executive Park, Burlington, MA. For information on the availability of this material at the FAA, call 781-238-7125.

(j) Material Incorporated by Reference

You must use the following service information to do the actions required by this AD, unless the AD specifies otherwise. The Director of the Federal Register approved the incorporation by reference (IBR) under 5 U.S.C. 552(a) and 1 CFR part 51 of the following service information.

(1) Turbomeca Mandatory Service Bulletin No. 319 75 4810, Version A, dated May 14, 2008, approved for IBR August 19, 2009 (74 FR 34221, July 15, 2009).

(2) Turbomeca Mandatory Service Bulletin No. 319 75 4810, Version B, dated January 25, 2011, approved for IBR May 24, 2012.

(3) For service information identified in this AD, contact Turbomeca, 40220 Tarnos, France; telephone 33 (0)5 59 74 40 00; telex 570 042; fax 33 (0)5 59 74 45 15.

(4) You may review copies of the referenced service information at the FAA, Engine & Propeller Directorate, 12 New England Executive Park, Burlington, MA. For information on the availability of this material at the FAA, call 781-238-7125.

(5) You may also review copies of the service information that is incorporated by reference at the National Archives and Records Administration (NARA). For information on the availability of this material at NARA, call 202-741-6030, or go to: http://www.archives.gov/federal-register/cfr/ibr_locations.html.

Issued in Burlington, Massachusetts, on April 3, 2012.
Colleen M. D'Alessandro,
Assistant Manager, Engine & Propeller Directorate, Aircraft Certification Service.

[FR Doc. 2012-8584 Filed 4-18-12; 8:45 am]

BILLING CODE 4910-13-P